DEPARTMENT OF THE INTERIOR

National Park Service

[NPS-WASO-NAGPRA-23006; PPWOCRADN0-PCU00RP14.R50000]

Notice of Inventory Completion: Nebraska State Historical Society, Lincoln, NE

AGENCY: National Park Service, Interior.

ACTION: Notice.

SUMMARY: The Nebraska State Historical Society (NSHS) has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the NSHS. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the NSHS at the address in this notice by April 12, 2017.

ADDRESSES: Rob Bozell, Nebraska State Historical Society, P.O. Box 82554, Lincoln, NE 68501, telephone (402) 471-4789, email rob.bozell@nebraska.gov.

SUPPLEMENTARY INFORMATION: Notice is here given in accordance with the Native American Graves Protection and Repatriation Act (NAGPRA), 25 U.S.C. 3003, of the completion of an inventory of human remains under the control of the Nebraska State Historical Society, Lincoln, NE. The human remains were removed from the Linwood site (25BU1) in Butler County, NE.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the NSHS professional staff in consultation with representatives of the Arapaho Tribe of the Wind River Reservation, Wyoming; Cheyenne River Sioux Tribe of the Cheyenne River Reservation, South Dakota; Iowa Tribe of Kansas and Nebraska; Kiowa Indian Tribe of Oklahoma; Northern Cheyenne Tribe of the Northern Cheyenne Indian Reservation, Montana; Pawnee Nation of Oklahoma; and Ponca Tribe of Nebraska.

History and Description of the Remains

At some time before 1973, human remains representing, at minimum, six individuals were removed from the Linwood site (25BU1) in Butler County, NE. The human remains are part of a large collection of archeological material donated by Alfred Ticacek to the Butler County Museum in 1973. In October of 2015, these human remains were discovered in storage at the Butler County Museum, and were given to the NSHS on October 21, 2015. The human remains were examined by a physical anthropologist, who indicated that the human remains are co-mingled, and they lack site feature-specific information. Based on crania and select post-cranial elements, the human remains represent, at minimum, three adults (one male, one female, and one indeterminate with regard to sex) and three children (one infant, one individual about 2 years in age, and one individual between 8 and 10 years in age). No known individuals were identified. No associated funerary objects are present.

The Linwood Site (25BU1) is a major Pawnee earthlodge village and cemetery complex that was occupied during A.D. 1750-1809 and again during A.D. 1850-1853. It is associated principally with the Grand and Republican bands of the Pawnee Confederacy. The affiliation is clearly documented through archeological materials (particularly architecture style, ceramic decoration and Euroamerican trade goods), as well as archival and historic cartographic sources. Human remains and associated funerary objects from the Linwood Site have previously been repatriated by the NSHS to the Pawnee Nation of Oklahoma.

Determinations Made by the Nebraska State Historical Society

Officials of the Nebraska State Historical Society have determined that:

• Pursuant to 25 U.S.C. 3001(9), the human remains described in this notice represent the physical remains of six individuals of Native American ancestry.

• Pursuant to 25 U.S.C. 3001(2), there is a relationship of shared group identity that can be reasonably traced between the Native American human remains and the Pawnee Tribe of Oklahoma.

Additional Requestors and Disposition

Lineal descendants or representatives of any Indian tribe or Native Hawaiian organization not identified in this notice that wish to request transfer of control of these human remains should submit a written request with information in support of the request to Rob Bozell, Nebraska State Historical Society, P.O. Box 82554, Lincoln, NE 68501, telephone (402) 471-4789, email rob.bozell@nebraska.gov, by April 12, 2017. After that date, if no additional requestors have come forward, transfer of control of the human remains to the Pawnee Tribe of Oklahoma may proceed.

The NSHS is responsible for notifying the Arapaho Tribe of the Wind River Reservation, Wyoming; Cheyenne River Sioux Tribe of the Cheyenne River Reservation, South Dakota; Iowa Tribe of Kansas and Nebraska; Kiowa Indian Tribe of Oklahoma; Northern Cheyenne Tribe of the Northern Cheyenne Indian Reservation, Montana; Pawnee Nation of Oklahoma; and Ponca Tribe of Nebraska that this notice has been published.

Dated: February 27, 2017.
Melanie O'Brien,
Manager, National NAGPRA Program.

[FR Doc. 2017-04858 Filed 3-10-17; 8:45 am]

BILLING CODE 4312-52-P